GENERAL SERVICES ADMINISTRATION

[OMB Control No. 3090-0027; Docket No. 2018-0001; Sequence No. 2]

Information Collection; General Services Administration Acquisition Regulation; Contract Administration, Quality Assurance (GSA Forms 1678 and 308)

AGENCY: Office of Acquisition Policy, General Services Administration (GSA).

ACTION: Notice of request for comments regarding an extension to an existing OMB clearance.

SUMMARY: Under the provisions of the Paperwork Reduction Act, the General Services Administration will be submitting to the Office of Management and Budget (OMB) a request to review and approve an extension of a previously approved information collection requirement regarding contract administration and quality assurance.

DATES: Submit comments on or before: July 10, 2018.

FOR FURTHER INFORMATION CONTACT: Ms. Jennifer Calik, Procurement Analyst, General Services Acquisition Policy Division, at 312-353-6090 or via email to jennifer.calik@gsa.gov.

ADDRESSES: Submit comments identified by Information Collection 3090-0027, Contract Administration and Quality Assurance (GSA Forms 1678 and 308), by any of the following methods:

• Regulations.gov: http://www.regulations.gov. Submit comments via the Federal eRulemaking portal by searching the OMB Control number 3090-0027. Select the link “Comment Now” that corresponds with “Information Collection 3090-0027, Contract Administration and Quality Assurance (GSA Forms 1678 and 308)”. Follow the instructions on the screen. Please include your name, company name (if any), and “Information Collection 3090-0027, Contract Administration and Quality Assurance (GSA Forms 1678 and 308)”, on your attached document.

• Mail: General Services Administration, Regulatory Secretariat Division (MVCB), 1800 F Street NW, Washington, DC 20406. ATTN: Ms. Mandell/IC 3090-0027, Contract Administration and Quality Assurance (GSA Forms 1678 and 308).

Instructions: Please submit comments only and cite Information Collection 3090-0027, Contract Administration and Quality Assurance (GSA Forms 1678 and 308), in all correspondence related to this collection. Comments received generally will be posted without change to regulations.gov, including any personal and/or business confidential information provided. To confirm receipt of your comment(s), please check regulations.gov, approximately two-to-three business days after submission to verify posting (except allow 30 days for posting of comments submitted by mail).

SUPPLEMENTARY INFORMATION:

A. Purpose

Under certain contracts, because of reliance on contractor inspection in lieu of Government inspection, GSA's Federal Acquisition Service requires documentation from its contractors to effectively monitor contractor performance and ensure that it will be able to take timely action should that performance be deficient.

B. Annual Reporting Burden

Response Time (Hours)—GSA Form 1678: 1,875.

Response Time (Hours)—GSA Form 308: 200.

Total Burden Hours: 2,075.

C. Public Comments

Public comments are particularly invited on: Whether this collection of information is necessary and whether it will have practical utility; whether our estimate of the public burden of this collection of information is accurate and based on valid assumptions and methodology; and ways to enhance the quality, utility, and clarity of the information to be collected.

Obtaining Copies of Proposals: Requesters may obtain a copy of the information collection documents from the General Services Administration, Regulatory Secretariat Division (MVCB), 1800 F Street NW, Washington, DC 20406, telephone 202-501-4755. Please cite OMB Control No. 3090-0027, Contract Administration, Quality Assurance (GSA Forms 1678 and 308), in all correspondence.

Dated: May 8, 2018.
Jeffrey A. Koses,
Senior Procurement Executive, Office of Acquisition Policy, Office of Government-wide Policy.

[FR Doc. 2018-10118 Filed 5-10-18; 8:45 am]

BILLING CODE 6820-61-P